NUCLEAR REGULATORY COMMISSION

10 CFR Part 71

Regulations for the Safe Transport of Radioactive Material; Solicitation of Comments on Proposed Changes

AGENCY: U.S. Nuclear Regulatory Commission.

ACTION: Solicitation of comments on proposed changes.

SUMMARY: The U.S. Nuclear Regulatory Commission (NRC) and the U.S. Department of Transportation (DOT) are jointly seeking comments on proposed changes to the International Atomic Energy Agency (IAEA) Regulations for the Safe Transport of Radioactive Material (referred to as TS-R-1). The proposed changes were submitted by the U.S. and other IAEA member states and International Organizations, and might necessitate subsequent domestic compatibility rulemakings by both the NRC and the DOT.

DATES: Proposed changes will be accepted until July 1, 2005. Proposed changes received after this date will be considered if it is practical to do so, but the NRC is able to assure consideration only for proposed changes received on or before this date.

ADDRESSES: Mail proposed changes to Michael Lesar, Chief, Rules and Directives Branch, Division of Administrative Services, Office of Administration, U.S. Nuclear Regulatory Commission, Washington, DC 20555-0001.

Hand deliver proposed changes to Two White Flint North, 11545 Rockville Pike (Mail Stop T6D59), Rockville, Maryland 20852, between 7:30 a.m. and 4:15 p.m. Federal workdays.

FOR FURTHER INFORMATION CONTACT: John Cook, Office of Nuclear Material Safety and Safeguards, U.S. Nuclear Regulatory Commission, Washington, DC 20555-0001, telephone: (301) 415-8521; e-mail: jrc1@nrc.gov.

SUPPLEMENTARY INFORMATION:

Background

The IAEA periodically revises its Regulations for the Safe Transport of Radioactive Material (TS-R-1) to reflect new information and accumulated experience. The DOT is the U.S. competent authority before the IAEA for radioactive material transportation matters. The NRC provides technical support to the DOT in this regard, particularly with respect to Type B and fissile packages.

On April 7, 2005, the IAEA posted for comment 28 proposed changes to TS-R-1. The IAEA's review process calls for Member States and International Organizations to provide comments to the IAEA by August 5, 2005. The proposed changes may be incorporated in a revised edition of the regulations in 2007, nominally to become effective worldwide in 2009. To assure opportunity for public involvement in the international regulatory development process, the DOT and the NRC are soliciting comments on the proposed changes at this time. This information will assist the DOT and the NRC in having a full range of views as the agencies develop comments the U.S. will submit to the IAEA.

The following documents are available for viewing and downloading on the Internet at: http://hazmat.dot.gov/regs/files/IAEADraftChanges.htm.

• Table of the regulatory changes proposed by the IAEA.

• A consolidated draft of the proposed TS-R-1 revision.

• A standard comment form for the proposed TS-R-1 revision.

• Table of the advisory material changes proposed by the IAEA.

• A consolidated draft of the proposed TS-G-1.1 revision.

• A standard comment form for the proposed TS-G-1.1 revisions.

Public comments on proposed changes must be submitted in writing (electronic file on disk in Word format preferred) using the standard comment forms referred to above. The NRC and the DOT will review the public comments received by July 1, 2005. Based in part on the information, the agencies will determine the U.S. comments on the proposed changes to be submitted to IAEA by August 5, 2005.

Comments on the proposed changes from the U.S., other Member States and International Organizations will be considered at an IAEA Review Panel Meeting to be convened by IAEA on September 5-9, 2005, in Vienna, Austria. Note that future domestic rulemakings, if necessary, will continue to follow established rulemaking procedures, including the opportunity to formally comment on proposed rules.

Dated in Rockville, Maryland, this 21st day of April 2005.
For the Nuclear Regulatory Commission.
David W. Pstrak,
Transportation and Storage Project Manager, Office of Nuclear Material Safety and Safeguards.

[FR Doc. 05-8371 Filed 4-26-05; 8:45 am]

BILLING CODE 7590-01-P